DEPARTMENT OF THE INTERIOR

Minerals Management Service

Outer Continental Shelf (OCS), Alaska OCS Region, Beaufort Sea and Chukchi Sea, Proposed Oil and Gas Lease Sales for Years 2007 to 2012

AGENCY: Minerals Management Service (MMS), Interior.

ACTION: Call for information and nominations and Notice of Intent (NOI) to prepare an Environmental Impact Statement (EIS).

SUMMARY: This Call for Information and Nominations (hereinafter referred to as “Call”) is the initial step in a multiple-sale process that incorporates planning and analysis for lease sales in the Beaufort Sea and Chukchi Sea planning areas included in the proposed final OCS Oil and Gas Leasing Program 2007-2012 (see 72 Federal Register (FR) 24326, May 2, 2007). Four lease sales are addressed in this Call; two in the Beaufort Sea (sales 209 and 217) and two in the Chukchi Sea (sales 212 and 221). (Sale 193 in the Chukchi Sea is a carryover from the Program for 2002-2007 and is not addressed by this Call.) Simultaneously with this Call, MMS is giving notice of its intent to prepare a multiple-sale EIS for the four sales.

DATES: Nominations and comments must be received no later than 45 days following publication of this document in the Federal Register. Submittals should be labeled “Nominations for Proposed Lease Sales in the Beaufort Sea and Chukchi Sea, 2007-2012” or “Comments on Call for Information and Nominations for Proposed Lease Sales in the Beaufort Sea and Chukchi Sea, 2007-2012, as appropriate.

FOR FURTHER INFORMATION CONTACT: Please contact Fred King at (907) 334-5271 in MMS's Alaska OCS Region, 3801 Centerpoint Drive, Ste 500, Anchorage, AK 99503-5823 regarding questions on the Call/NOI.

SUPPLEMENTARY INFORMATION: The multiple-sale review process is based on more than 30 years of leasing in the Beaufort Sea and more than 20 years in the Chukchi Sea. In 2001, MMS initiated the multiple-sale review process by issuing a multiple-sale Call for three sales in the Beaufort Sea (sales 186, 195 and 202), held under the OCS Oil and Gas Leasing Program, 2002-2007. The MMS is now issuing a multiple-sale Call for the Beaufort Sea and Chukchi Sea sales in the proposed final program for 2007-2012.

The final multiple-sale EIS will serve as the National Environmental Policy Act (NEPA) and Coastal Zone Management Act (CZMA) Consistency Determination (CD) analysis for Beaufort Sea Sale 209 and Chukchi Sea Sale 212. MMS will prepare additional NEPA, CZMA, and Outer Continental Shelf Lands Act (OCSLA) documents, as appropriate.

Call for Information and Nominations

1. Authority

This Call is published pursuant to the OCS Lands Act as amended (43 U.S.C. 1331-1356, (1994)) and the regulations issued thereunder (30 CFR 256); and in accordance with the proposed final OCS Oil and Gas Leasing Program, 2007-2012.

2. Purpose of Call

The purpose of the Call is to gather information for the following tentatively scheduled OCS Oil and Gas Lease Sales in the Beaufort Sea and Chukchi Sea:

Lease sale, OCS planning area | Sale year
Sale 209, Beaufort Sea | 2009
Sale 212, Chukchi Sea | 2010
Sale 217, Beaufort Sea | 2011
Sale 221, Chukchi Sea | 2012

Sale 193 in the Chukchi Sea is not part of this Call. Sale 193 was initiated in 2005 (70 FR 6903) as part of the OCS Oil and Gas Leasing Program, 2002-2007, and was carried over to the Program for 2007-2012 to allow adequate time to complete necessary pre-lease steps and environmental assessment and documentation. Sale 193 is scheduled for February 2008. Information and nominations on oil and gas leasing, exploration, and development and production within the Beaufort Sea and Chukchi Sea are sought from all interested parties. This early planning and consultation step is important for ensuring that all interests and concerns are communicated to the U.S. Department of the Interior for its consideration in future decisions in the leasing process pursuant to the OCS Lands Act and regulations at 30 CFR 256. Responses are requested for the four sales listed in the Call proposed in the Beaufort Sea and Chukchi Sea planning areas between 2007 and 2012. This Call/NOI is being issued in accordance with the proposed final OCS Oil and Gas Leasing Program, 2007-2012, published on May 2, 2007 (72 FR 24326).

This Call also does not indicate a preliminary decision to lease in the areas described below. Final decision and delineation of each area for possible leasing will be made at a later date and in compliance with applicable laws including all requirements of NEPA and OCSLA using established departmental procedures.

3. Description of Area

The area that is the subject of this Call is located offshore the State of Alaska in the Beaufort Sea and Chukchi Sea planning areas. The “program area” is that subarea of the larger planning areas that may be offered in the OCS Oil and Gas Leasing Program, 2007-2012. The Beaufort Sea program area extends offshore from about 3 nautical miles to approximately 205 statute miles, in water depths from approximately 25 feet to 3,000 feet. This area consists of approximately 6,045 whole and partial blocks (about 33 million acres). The Chukchi Sea program area extends offshore from 25 to approximately 275 statute miles, in water depths from approximately 60 to 660 feet (up to 3,000 feet in a portion of the program area). This area consists of 7,324 whole or partial blocks (about 40 million acres). A page size map of each area accompanies this Call. A large scale Call map showing the boundaries of the area on a block-by-block basis is available without charge from the Records Manager at the address given below, or by telephone request at 1-800-764-2627. Copies of Official Protraction Diagrams (OPDs) are also available for $2 each from Alaska OCS Region, Minerals Management Service, 3801 Centerpoint Drive, Ste. 500, Anchorage, Alaska 99503-5823, http://www.mms.gov/alaska.

4. Instructions on Call

Nominations and information must be received no later than 45 days following publication of this Call in the Federal Register. Submittals should indicate “Nominations for Proposed Lease Sales in the Beaufort and Chukchi Sea, 2007-2012” or “Comments on the Call for Information for Proposed Lease Sales in Beaufort and Chukchi Seas, 2007-2012” as appropriate. Nominations and comments may be submitted by any one the following methods:

• Mail or hand-deliver comments to the Regional Supervisor, Leasing and Environment, Alaska OCS Region, Minerals Management Service, 3801 Centerpoint Drive, Ste. 500, Anchorage, Alaska 99503-5823.

• Submit comments by Internet through MMS Public Connect at https://ocsconnect.mms.gov/ pcs-public/.

• Fax comments to the Regional Supervisor, Leasing and Environment, Alaska OCS Region, Minerals Management Service at (907) 334-5242.

• E-mail comments to arcticmultisale@mms.gov.

Please submit e-mail or Internet comments as an ASCII file, avoiding the use of special characters and any form of encryption. Please also include your name and return address in your e-mail or Internet message. If you do not receive a confirmation from the system that we have received your e-mail or Internet message, contact us directly at 1-800-764-2627.

The Call for Information Map delineates the Call area, all of which has been identified by MMS as having potential for the discovery of accumulations of oil and gas. Respondents are requested to indicate nominations and comment on any or all of the Federal acreage within the boundaries of the Call area that they wish to have included in each of the proposed sales in the Beaufort Sea and Chukchi Sea. Although individual nominations are considered to be privileged and proprietary information, the names of persons or entities indicating interest or submitting comments will be of public record.

Nominations must be submitted using the large-scale Call for Information Map by outlining the areas of interest along block lines. Respondents should rank areas in which they have nominated according to priority of interest; for example, priority 1 (high), or 2 (medium). Blocks nominated that do not indicate priorities will be considered priority 3 (low). Respondents must be specific in indicating blocks by priority and be prepared to discuss their range of interest and activity regarding the nominated area(s). The telephone number and name of a person to contact in the nominator's organization for additional information should be included in the response. The Alaska OCS Regional Office will contact this person to set up a mutually agreeable time and place for a meeting to more fully review the company's nominations. Respondents may also submit a detailed list of blocks nominated by Official Protraction Diagram and Leasing Map designations to ensure correct interpretation of their nominations. Official Protraction Diagrams and Leasing Maps can be purchased from the Records Manager referred to above.

Companies and individuals responding this Call are advised of a dispute between the United States and Canada regarding Beaufort Sea Planning Area blocks in OPD's NR07-06, NR07-04, NS07-02, and NS07-08. (See Map Attachment 4.) While these blocks are part of the 2007 to 2012 5-Year Program Area to be considered and evaluated in the NEPA process, resolution of the claims dispute may affect the timing, terms of conditions, and potentially the issuance of leases in these four OPD's.

Comments are sought from all interested parties about particular geological (including natural hazard areas), environmental, biological, archaeological, and socioeconomic conditions or conflicts, or other information that might bear upon the potential leasing and development of particular areas. Comments are also sought on possible conflicts between future OCS oil and gas activities that may result from the proposed sales and the standards of the Alaska Coastal Management Program (ACMP) and the enforceable policies of an approved local district coastal management plan. If possible, these comments should identify specific Coastal Management Program (CMP) policies of concern, the nature of the conflict foreseen, and steps that MMS could take to avoid or mitigate the potential conflict. Comments may be in terms of broad areas or restricted to particular blocks or areas of concern. Those submitting comments are requested to list block numbers or outline the subject area on the standard Call for Information Map.

Our practice is to make comments, including names and addresses of respondents, available for public review during regular business hours. Individual respondents may request that we withhold their address from the rulemaking record, which we will honor to the extent allowable by law. There also may be circumstances in which we would withhold a respondent's identity, as allowable by law. If you wish us to withhold your name or address, you must state this prominently at the beginning of your comment. However, we will not consider anonymous comments. We will make all submissions from organizations or businesses, and from individuals identifying themselves as representatives or officials of organizations or businesses, available for public inspection in their entirety.

5. Use of Information from Call

Information submitted in response to this Call will be used for several purposes. Responses will be used to:

• Help identify areas of potential oil and gas development;

• Identify environmental effects and potential use conflicts;

• Assist in the scoping process for the EIS;

• Develop possible alternatives to the proposed action;

• Develop lease terms and conditions/mitigating measures;

• Identify potential conflicts between oil and gas activities and the ACMP.

6. Existing Information

The MMS has acquired a substantial amount of information, including that gained through the use of traditional knowledge, on the issues and concerns related to oil and gas leasing in the Beaufort Sea and Chukchi Sea.

An extensive environmental, social, and economic studies program has been underway in both areas since 1975. The emphasis has been on geologic mapping, environmental characterization of biologically sensitive habitats, endangered whales and marine mammals, physical oceanography, ocean-circulation modeling, and ecological and socio-cultural effects of oil and gas activities.

Information on the studies program, completed studies, and a program status report for continuing studies in the Beaufort Sea and Chukchi Sea may be obtained from the Chief, Environmental Studies Section, Alaska OCS Region, by telephone request at (907) 334-5281 or by written request at the address stated under Description of Area. A request may also be made via the Alaska Region Web site at http://www.mms.gov/alaska/ref/pubindex/pubsindex.htm.

7. Tentative Schedule

The following is a list of tentative milestone dates applicable to sales covered by this Call:

Multiple-sale EIS process milestones for proposed Beaufort Sea Sales 209 and 217 and Chukchi Sea Sales 212 and 221
Call/NOI published | August 2007.
Comments due on Call/NOI | September 2007.
Area Identification | November 2007.
Draft EIS available | July 2008.
Public Hearings | August 2008.
Final EIS available | March 2009.
Consistency Determination, Proposed Notice of Sale, Section 19 Consultation, and Notice of Sale for Beaufort Sea Sale 209
Consistency Determination/Proposed Notice of Sale issued | March 2009.
Governor's Comments due | May 2009.
Final Notice of Sale published | October 2009.
Sale held | November 2009.
Consistency Determination, Proposed Notice of Sale, Section 19 Consultation, and Notice of Sale for Chukchi Sea Sale 212
Consistency Determination/Proposed Notice of Sale issued | July 2009.
Governor's Comments due | October 2009.
Final Notice of Sale published | February 2010.
Sale held | March 2010.
Multiple-sale NEPA process milestones for proposed Beaufort Sea Sale 217 and Chukchi Sea Sale 221
The Multiple-sale Supplemental EIS or Environmental Assessment for Sales 217 and 221 will commence about 21 months (Spring 2010) before Sale 217. If a Supplemental EIS is prepared, public hearings will occur approximately a year prior to Sale 217. The Final Supplemental EIS or EA will be completed and distributed to the public approximately 8 months prior to Sale 217.
Consistency Determination, Proposed Notice of Sale, Section 19 Consultation, and Notice of Sale for Beaufort Sea Sale 217
Consistency Determination/Proposed Notice of Sale issued | Spring 2011.
Governor's Comments due | Spring/Summer 2011.
Final Notice of Sale published | Fall 2011.
Sale 217 held | Fall/Winter 2011.
Consistency Determination, Proposed Notice of Sale, Section 19 Consultation, and Notice of Sale for Chukchi Sea Sale 221
Consistency Determination/Proposed Notice of Sale issued | Summer 2011.
Governor's Comments due | Fall 2011.
Final Notice of Sale published | Winter 2011/2012.
Sale 221 held | Spring 2012.

Notice of Intent To Prepare an Environmental Impact Statement

1. Authority

The NOI is published pursuant to the regulations (40 CFR 1501.7) implementing the provisions of the National Environmental Policy Act (NEPA) of 1969 as amended (42 U.S.C. 4321 et seq. (1988)) (NEPA).

2. Purpose of Notice of Intent

Pursuant to the regulations (40 CFR 1501.7) implementing the procedural provisions of the NEPA of 1969 (42 U.S.C. 4321 et seq.), MMS is announcing its intent to prepare a multiple-sale EIS on four tentatively scheduled oil and gas lease sales; two in the Beaufort Sea OCS Planning Area (sales 209 and 217) and two in the Chukchi Sea OCS Planning Area (sales 212 and 221). (Sale 193 in the Chukchi Sea is a carryover from the 5-Year Program for 2002-2007 and is not the subject of the NOI.) The EIS analysis will focus on the potential environmental effects of four sales and the exploration and development and production that could result. Alternatives to the proposals which may be considered for each individual sale are to delay the sale, modify the sale, or cancel the sale. These and any additional alternatives developed through the scoping process would be considered in the sale-specific decision process. This Notice of Intent also serves to announce the initiation of the scoping process for this EIS. Throughout the scoping process, Federal, State, Tribal, and local governments and other interested parties aid MMS in determining the alternatives, issues, and mitigation measures to be analyzed in the EIS and the possible need for additional information.

The multiple-sale EIS will serve as the NEPA document for Beaufort Sea Sale 209 and Chukchi Sea Sale 212. Prior to Sales 217 (Beaufort Sea) and 221 (Chukchi Sea) MMS will gather and review the new environmental information applicable to the Beaufort Sea and Chukchi Sea Planning Areas. The MMS will summarize and assess potential effects based on this information, including any new concerns and issues, in either a Supplemental EIS or an Environmental Assessment, as appropriate. This NEPA document will be available to the public for their review prior to the issuance of the Proposed Notice of Sale.

The Department of the Interior invites other Federal, State, Tribal, and local governments to consider becoming cooperating agencies in the preparation of the EIS. We invite qualified government entities to inquire about cooperating agency status for this lease sale EIS. Per guidelines from the Council of Environmental Quality (CEQ), qualified agencies and governments are those with “jurisdiction by law or special expertise.” Potential cooperating agencies should consider their authority and capacity to assume the responsibilities of a cooperating agency and to remember that their role in the environmental analysis neither enlarges nor diminishes the final decision making authority of any other agency involved in the NEPA process. Upon request, MMS will provide potential cooperating agencies with a written summary of ground rules for cooperating agencies including time schedules and critical action dates, milestones, responsibilities, scope and detail of cooperating agencies' contributions, and availability of pre-decisional information. MMS anticipates this summary will form the basis for a Memorandum of Understanding between the MMS and each cooperating agency. You should also consider the “Factors for Determining Cooperating Agency Status” in Attachment 1 to CEQ's January 30, 2002, Memorandum for the Heads of Federal Agencies on Cooperating Agencies in Implementing the Procedural Requirements of The National Environmental Policy Act. A copy of this document is available at: http://ceq.eh.doe.gov/nepa/regs/cooperating/cooperatingagenciesmemorandum.html and http://ceq.eh.doe.gov/nepa/regs/cooperating/cooperatingagencymemofactors.html.

The MMS, as the lead agency, will not be providing financial assistance to cooperating agencies. Even if you are not a cooperating agency, you will continue to have opportunities to provide information and comments to MMS during the normal public input phases of the NEPA/EIS process. MMS will also consult with Tribal governments on a Government-to-Government basis. If you would like further information about cooperating agencies, please contact Dr. Cleve Cowles, Regional Supervisor, Leasing and Environment, at the address noted above or by phone at (907) 334-5230.

3. New NEPA Procedure

As described above, the multiple-sale EIS will encompass the Beaufort Sea OCS Planning Area and the Chukchi Sea OCS Planning Area. The preparation of a multiple-sale, multiple-planning area EIS is a new approach for the MMS Alaska OCS Region, although it has been used for sales in the Gulf of Mexico Region. Federal offshore leasing in the Beaufort Sea began in 1978 and in the Chukchi Sea in 1988 with the potential effects of ten out of the thirteen sales analyzed by an individual EIS. Starting with the Program for 2002 to 2007, the Alaska OCS Region prepared a multiple-sale EIS for the three sales held in the Beaufort Sea OCS Planning Area. For the proposed final Program for 2007 to 2012, we extend this approach by preparing a multiple-sale, multiple-planning area EIS.

This approach will provide several benefits. It will thoroughly describe the effects of individual proposed actions (the four lease sales) and cumulative effects of reasonably-foreseeable future actions within and across the two areas. It will focus the NEPA process by making impact types and levels that change between the first and second sale in each planning area more easily recognizable. New issues will be more easily highlighted for the decisionmakers and the public. It will also eliminate the repetitive issuance of a complete EIS for each sale, a practice that has resulted in “review burnout” in Federal, State, tribal, and local governments, and the public.

4. Instructions on Notice of Intent

Federal, State, tribal, and local governments and other interested parties are requested to send their written comments on the scope of the EIS, including the alternatives, issues, and mitigation measures that should be addressed in the EIS, to the Regional Supervisor, Leasing and Environment, Alaska OCS Region, at the address stated under Instructions on Call above. Comments should be enclosed in an envelope labeled “Comments on the Notice of Intent to Prepare an EIS on Proposed Chukchi and Beaufort Sea Lease Sales included in the Program, 2007-2012.” Comments are due no later than 45 days from publication of this Notice. Scoping meetings will be held in appropriate locations to obtain additional comments and information regarding the scope of this EIS.

Dated: August 8, 2007.
Randall B. Luthi,
Director, Minerals Management Service.

BILLING CODE 4310-MR-P

[FR Doc. 07-4134 Filed 8-22-07; 8:45 am]

BILLING CODE 4310-MR-C